DEPARTMENT OF THE TREASURY

Internal Revenue Service

26 CFR Part 1

[TD 8988]

RIN 1545-BA55

Guidance Under Section 355(e); Recognition of Gain on Certain Distributions of Stock or Securities in Connection With an Acquisition; Corrections

AGENCY: Internal Revenue Service (IRS), Treasury.

ACTION: Corrections to temporary regulations.

SUMMARY: This document contain corrections to temporary regulations that were published in the Federal Register on Friday, April 26, 2002 (67 FR 20632) relating to recognition of gain on certain distributions of stock or securities of a controlled corporation in connection with an acquisition.

DATES: Effective Date: These corrections are effective April 26, 2002.

FOR FURTHER INFORMATION CONTACT: Amber R. Cook, (202) 622-7530 (not a toll-free number).

SUPPLEMENTARY INFORMATION:

Background

The temporary regulations that are the subject of these corrections are under section 355(e) of the Internal Revenue Code.

Need for Correction

As published, TD 8988 contains errors which may prove to be misleading and are in need of clarification.

Correction of Publication

Accordingly, the publication of the temporary regulations (TD 8988), which is the subject of FR Doc. 02-9929 is corrected as follows:

1. On page 20635, column 2, in the preamble under the caption “Explanation of Provisions”, line 13 of paragraph H.(1.), the language “reasonable certainty” that, within six” is corrected to read “'reasonable certainty” that, within 6”.

§ 1.355-0 [Corrected]

2. On page 20636, column 2, § 1.355-7T(k), the language “Effective date.” is corrected to read “Effective dates.”.

§ 1.355-7T [Corrected]

3. On page 20637, column 1, § 1.355-7T(b)(3)(iii), line 13, the language “before a distribution where a person” is corrected to read “before a distribution, a person''.

4. On page 20637, column 1, § 1.355-7T(b)(3)(iii), line 15, the language “intends to cause a distribution and, as” is corrected to read “intended to cause a distribution and, as''.

5. On page 20641, column 2, § 1.355-7T(j) Example 4.(v), line 2, the language “of C and acquisition of X by D are part of a” is corrected to read “of C and the acquisition of X by D are part of a''.

Cynthia Grigsby,
Chief, Regulations Unit, Associate Chief Counsel, (Income Tax and Accounting).

[FR Doc. 02-13846 Filed 5-31-02; 8:45 am]

BILLING CODE 4830-01-P